DEPARTMENT OF ENERGY

10 CFR Part 430

[Docket No. EERE-2013-BT-TP-0050]

RIN 1904-AD10

Energy Conservation Program: Test Procedures for Ceiling Fans; Correction

AGENCY: Office of Energy Efficiency and Renewable Energy, Department of Energy.

ACTION: Final rule; technical correction.

SUMMARY: On July 25, 2016, the U.S. Department of Energy published a final rule amending test procedures for ceiling fans. 81 FR 48619. This correction addresses an amendatory term error in that final rule.

DATES: The correction is effective August 24, 2016.

FOR FURTHER INFORMATION CONTACT:

Ms. Lucy deButts, U.S. Department of Energy, Office of Energy Efficiency and Renewable Energy, Building Technologies Office, EE-2J, 1000 Independence Avenue SW., Washington, DC, 20585-0121. Telephone: (202) 287-1604. Email: ceiling_fans@ee.doe.gov.

Ms. Elizabeth Kohl, U.S. Department of Energy, Office of the General Counsel, GC-33, 1000 Independence Avenue SW., Washington, DC, 20585-0121. Telephone: (202) 586-7796. Email: elizabeth.kohl@hq.doe.gov.

SUPPLEMENTARY INFORMATION: The U.S. Department of Energy (DOE) published a final rule in the Federal Register on July 25, 2016 (“the July 2016 final rule”) amending test procedures for ceiling fans. 81 FR 48619. This correction addresses an amendatory term error in that final rule. Specifically, the instructions amending appendix U to subpart B of part 430—Uniform Test Method for Measuring the Energy Consumption of Ceiling Fans, stated that appendix U is “added”. Since 10 CFR part 430 already includes appendix U, the instruction amending appendix U should use the amendatory term “revised.” This document corrects appendix U instructions to use the correct amendatory term “revised.”

Correction

In FR Doc. 2016-17139, appearing on page 48640, in the issue of Monday, July 25, 2016, amendatory instruction 7. is corrected to read as follows:

Appendix U to Subpart B of Part 430 [Corrected]

7. Appendix U to subpart B of part 430 is revised to read as follows:

* * * * *

Issued in Washington, DC on August 11, 2016.
Kathleen B. Hogan,
Deputy Assistant Secretary for Energy Efficiency, Energy Efficiency and Renewable Energy.

[FR Doc. 2016-19621 Filed 8-16-16; 8:45 am]

BILLING CODE 6450-01-P